DEPARTMENT OF HOMELAND SECURITY

Coast Guard

[Docket Number USCG-2021-0191]

Final Programmatic Environmental Impact Statement Waterways Commerce Cutter Acquisition Program

AGENCY: Coast Guard, DHS.

ACTION: Notice of availability; request for comments.

SUMMARY: The U.S. Coast Guard announces the availability of the Final Programmatic Environmental Impact Statement (PEIS) for the Waterways Commerce Cutter (WCC) Program's acquisition and operation of a planned 30 WCCs. In accordance with National Environmental Policy Act (NEPA) and the Council on Environmental Quality (CEQ) NEPA implementing regulations, the Final PEIS analyzes the potential environmental and socioeconomic impacts, and identifies related mitigation measures, associated with acquisition and operation of a planned 30 WCCs to replace the capabilities of the existing inland tender fleet (Proposed Action).

DATES: Comments and related material must be post-marked or received by the Coast Guard on or before April 18, 2022. No decision will be made until at least 30 days after publication of the Notice of Availability (NOA) in the Federal Register by the U.S. Environmental Protection Agency, at which time the Coast Guard may execute a Record of Decision (ROD).

ADDRESSES: The Final PEIS is available in the docket which can be found by searching the docket number USCG-2021-0191 using the Federal Decision Making Portal at https://www.regulations.gov and for download on the project website at https://www.dcms.uscg.mil/Our-Organization/Assistant-Commandant-for-Engineering-Logistics-CG-4-/Program-Offices/Environmental-Management/Environmental-Planning-and-Historic-Preservation/. Requests for additional information should be sent to U.S. Coast Guard Headquarters, ATTN: LCDR S. Krolman (CG-9327), 2703 Martin Luther King Jr. Ave. SE, Stop 7800, Washington, DC 20593.

We encourage you to submit comments and related material on the Final PEIS. We will consider all submissions and may adjust our final action based on your comments. If you submit a comment, please include the docket number for this notice, indicate the specific section of this document to which each comment applies, and provide a reason for each suggestion or recommendation.

Submitting Comments: You may submit comments on the Final PEIS by one of the following methods:

• Via the Web: You may submit comments identified by docket number USCG-2021-0191 using the Federal eRulemaking Portal at https://www.regulations.gov.

• Via U.S. Mail: U.S. Coast Guard Headquarters, ATTN: LCDR S. Krolman (CG-9327), 2703 Martin Luther King Jr. Ave. SE, Stop 7800, Washington, DC 20593. Please note that mailed comments must be postmarked on or before the comment deadline of 30 days following publication of this notice to be considered.

Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Please contact Lieutenant Commander S. Krolman, Waterways Commerce Cutter Program, U.S. Coast Guard; phone 202-475-3104; email HQS-SMB-CG-WaterwaysCommerceCutter@uscg.mil.

SUPPLEMENTARY INFORMATION: The Coast Guard has a statutory mission to establish, maintain, and operate aids to navigation (ATON) in the Inland Waterways and Western Rivers (IW&WR). The IW&WR includes the Gulf and Atlantic Intracoastal Waterway; the Mississippi, Missouri, Alabama, Tennessee, Columbia, and Ohio Rivers, their associated tributaries and other connecting waterways; portions of the Alaska Inside Passage; portions of the Great Lakes; and several other navigable waterways around the United States. The 35 cutters and associated 27 barges that comprise the existing inland tender fleet servicing the IW&WR are, on average, more than 54 years old and all have significantly exceeded their design service life of 30 years. There is no redundant vessel capability within the Coast Guard, Department of Homeland Security (DHS), or other government agencies. Without replacement of the existing inland tender fleet, the Coast Guard could face an increasing risk of failure to maintain the capability to execute its ATON mission and provide timely ATON services in the IW&WR and other navigable waters around the United States. The Proposed Action would enable the continued safe navigation of waters that support the nation's economy through maritime commerce throughout the Marine Transportation System.

Similar to the existing inland tender fleet's operations, the Proposed Action would include vessel operations to establish, operate, and maintain the lighted and unlighted buoys and beacons to maintain the United States Visual ATON System. This mission contributes to protecting national interests by ensuring safe and efficient flow of commercial vessel traffic through our nation's waters.

Full operational capability would be achieved when all planned WCCs have been produced and are operational. Coast Guard WCC operations and training would occur after delivery of each WCC from the shipbuilder to the Coast Guard. For example, the first WCC delivery to the Coast Guard is expected in 2024 and the cutter would then be operational in 2025. The last WCC is expected to be delivered and operational approximately by 2030.

The Proposed Action would include WCC operation, maintenance, and commissioning of a planned 11 WCC construction class (WLIC) tenders to replace the existing capabilities of 13 inland construction tenders; a planned 16 River Buoy class (WLR) tenders to replace the capabilities of the river buoy tenders; and a planned three Inland Buoy class (WLI) tenders to replace the capabilities of the inland buoy tenders. Although there are three classes proposed and design specifications are not final, the design would maximize commonality between the three classes to reduce sustainment costs, training needs, and other associated requirements.

The Final PEIS analyzes the potential environmental and socioeconomic impacts associated with the Proposed Action, including direct, indirect, and cumulative effects, and mitigation measure to minimize impacts.

The Coast Guard completed an Endangered Species Act (ESA) Section 7 and Essential Fish Habitat consultation with the National Marine Fisheries Service (NMFS) on U.S. Coast Guard Federal Aids to Navigation Program on April 19, 2018. The Coast Guard obtained U.S. Fish and Wildlife Service (USFWS) concurrence on the determination that there would be no effect to ESA listed species from vessel design and construction. An ESA Section 7 consultation with the USFWS on U.S. Coast Guard Federal Aids to Navigation Program remains on-going and is inclusive of all WCC operations, which is expected to be completed before the first planned WCC is operational in 2025. The USFWS expects to complete formal consultation and issue their opinion on the USCG ATON Biological Evaluation in December 2022 and before the first new WCC is constructed. The WCC Proposed Action is included in the ESA consultations with NMFS and the USFWS.

The Coast Guard identified three reasonable alternatives that would meet the purpose and need of the Proposed Action; these three Action Alternatives are analyzed in detail in the Final PEIS.

1. Alternative 1 (Preferred Alternative): The Coast Guard would acquire a planned 30 WCCs to replace the capabilities of the existing inland tender fleet (consisting of 35 cutters and 27 barges) to fulfill mission requirements in federal waterways, including the vast network of the IW&WR. The proposed WCCs would consist of a planned 16 WLRs, a planned 11 WLICs, and a planned three WLIs. The first WCCs would potentially be operational as soon as 2025, with a planned 30 WCCs delivered and operational approximately by 2030. A planned four WLR and WLIC vessels could be constructed per year, dependent upon industry capability, beginning in 2025 and continuing until 27 total WLRs and WLICs have been received. The first WLI would not be expected until 2027 with a planned two WLIs being delivered in a year, dependent upon industry capability. WCCs are expected to be operational within 3 months of the time of acceptance from the contractor. During construction of the WCCs, Coast Guard would have up to two dozen personnel imbedded in the contractor's workspaces for design and construction review and inspection. This construction schedule would allow for the existing inland tender fleet to remain present with no service interruptions to Coast Guard missions.

2. Alternative 2: The Coast Guard would explore hybrid government and contracted options for mission performance. Ship platforms would meet similar technical specifications discussed in Alternative 1. Scenarios include: Contractor-owned vessels that are government-operated (Coast Guard employees or a partner agency provides the crew for third-party, contractor-owned vessels); government-owned vessels that are contractor-operated (a commercial operating company provides the crew for Coast Guard or partner agency owned vessels); or contractor-owned and contractor-operated systems (Coast Guard provides neither the vessels nor personnel).

The logistical costs of contracting a combination of unique hulls to satisfy the requirements to service ATON in the proposed action areas would exceed the corresponding costs of maintaining a class of 30 cutters that would be built specifically to conduct missions in the Coast Guard's proposed action areas. Similarly, one-for-one replacement would cost far more per replacement hull because it eliminates any workforce savings associated with a ship with capabilities designed specifically to conduct Coast Guard missions in the IW&WR. Major challenges to any combined fleet are that the assets would not be able to communicate in real time, they would operate at differing levels of efficiency (resulting in decreased efficiency throughout the ATON system), and they would incur increased maintenance costs.

3. Alternative 3: The mixed fleet alternative would involve a combination of cutters and shore-based assets (including Aids to Navigation team units), implementation of electronic ATON, and use of contracted ATON services to achieve Coast Guard ATON missions throughout the IW&WR. To accomplish a mixed fleet solution, additional Coast Guard ATON personnel and teams would be required. To accommodate the additional ATON teams, existing facilities would require expansion and construction of new shore based facilities could be necessary. Use of electronic ATON instead of physical ATON could also prove necessary. Similar to Alternative 2, the logistical costs to satisfy the requirements to service ATON in the proposed action areas would exceed the corresponding costs of maintaining a class of 30 cutters that would be built specifically to conduct missions in the IW&WR. Additionally, similar to Alternative 2, major challenges with this approach are that assets would not be able to communicate in real time, they would operate at differing levels of efficiency (resulting in decreased efficiency throughout the system), and they would incur increased maintenance costs.

The Coast Guard also carried forward the No Action Alternative for detailed analysis in the Final PEIS. While the No Action Alternative would not satisfy the purpose and need for the Proposed Action, this alternative was retained to provide a comparative against which to analyze the effects of the Action Alternatives as required under CEQ's NEPA regulation.

Resource areas analyzed in the Final PEIS include: Air quality, ambient sound, bottom habitat and sediments, water quality, biological resources and critical habitat, and socioeconomic resources.

Stressors analyzed in the Final PEIS include: Acoustic stressors (fathometer and Doppler speed log noise, vessel noise, ATON signal testing noise, tool noise, and pile driving noise) and physical stressors (vessel movement, bottom devices, construction, brushing, pile driving, unrecovered jet cone moorings, ATON retrieval devices, and tow lines).

Based on the analysis presented in the Final PEIS, potentially adverse impacts could occur to biological resources (that is, from disturbance); however, practical mitigation measures presented in the Final PEIS reduce any of these potential adverse effects. As a result, impacts to all resource areas would be less-than-significant (that is, negligible, minor, or moderate) adverse or beneficial, which may result in the Coast Guard making a finding of no significant impact in the ROD. However, these findings are not final until the Coast Guard executes a ROD.

The Coast Guard held two virtual public scoping meetings and on September 24, 2021, the Coast Guard published a Notice of Availability (NOA) and a request for comments on the Draft PEIS (86 FR 53086). The Coast Guard received three letters commenting on the Draft PEIS. The Coast Guard considered and addressed in the Final PEIS comments received on the Draft PEIS during the comment period. Public comments did not result in the addition of substantive revisions to the Draft PEIS. Responses to comments are in Appendix G of the Final PEIS. An electronic copy of the Final PEIS is posted on the following web page: https://www.dcms.uscg.mil/Our-Organization/Assistant-Commandant-for-Engineering-Logistics-CG-4-/Program-Offices/Environmental-Management/Environmental-Planning-and-Historic-Preservation/.

After publication of this NOA of the Final PEIS, the Coast Guard will prepare and publish its ROD announcing which Alternative is environmentally preferred and which Alternative it selects for implementation. Publication of the Final ROD will occur no sooner than 30 days after the publication of the Final PEIS. This notice is issued under authority of NEPA, specifically in compliance with 42 U.S.C. 4332(2)(C) and CEQ implementing regulations in 40 CFR parts 1500 through 1508.

Dated: March 14, 2022.
Aaron Pagnotti,
Waterways Commerce Cutter Program Manager.

[FR Doc. 2022-05703 Filed 3-17-22; 8:45 am]

BILLING CODE 9110-04-P